DEPARTMENT OF THE INTERIOR

Bureau of Land Management

Notice of Intent To Prepare an Environmental Assessment for Amendments to the Gunnison and Uncompahgre Resource Management Plans Regarding Cross-Country Travel by Off Highway Vehicles and Mountain Bikes; 30-Day Scoping Period Announced

AGENCY: Bureau of Land Management, Interior.

ACTION: Notice.

SUMMARY: Notice is hereby given that the Gunnison and the Uncompahgre Field Offices, Bureau of Land Management (BLM) in Colorado, propose to prepare an Environmental Assessment and amend their respective resource management plans to prohibit cross-country travel by off-highway vehicles and mountain bikes on certain lands managed by each of these agency offices. Cross-country travel is defined as travel off established, existing roads and trails. Established, existing roads and trails, for this proposal, are defined as: roads and trails that exist on the ground at the time agency decisions become effective, and are described in agency travel inventories, or are easily recognizable on the ground as a route, and have been traveled routinely by users. This action is interim in nature, and is necessary so these offices can responsibly manage the land and meet people needs by preventing the proliferation of new, user-created routes and help maintain a quality recreation experience until intensive travel management planning can be completed by the agencies for the affected lands. The affected BLM offices propose changing OHV designations under 43 CFR 8342.2 on BLM-managed lands currently designated “open” year-long, and “limited seasonally”, to “limited to existing roads and trails”, in order to prohibit cross-country travel by OHVs. In addition, under 43 CFR 8364.1 the offices propose to limit mountain bike use to “existing roads and trails” on all lands where use is not currently prohibited. Snowmobile use would not be addressed in this proposal. Implementing these proposed land use plan amendments would be an interim and temporary measure until the offices can conduct intensive and detailed travel management planning on the affected lands. After the completion of the EA, the BLM offices would then issue decisions amending existing resource management plans.

This effort is being undertaken in coordination with the Forest Service which is proposing similar measures on National Forest lands managed by the Gunnison and Paonia Ranger Districts within the Gunnison National Forest, Region 2.

The public is invited to comment on this proposal and to contact the local offices for additional information. The 30-day time period for receiving comments from the public will begin on the day this notice is published in the Federal Register, and will end 30 days after the publication of this notice in the Federal Register. Informal scoping occurred from February 24, 2000, through March 24, 2000. This notice will satisfy the requirement for the affected BLM offices to conduct formal scoping. Comments received during the scoping period will be considered during the preparation of the EA.

All alternatives to be considered during the EA process will be formulated after the scoping period is over and all comments are received.

DATES: Submit comments on or before May 1, 2000.

ADDRESSES: Address all comments concerning this notice to Bill Bottomly, Bureau of Land Management, 2465 South Townsend Avenue, Montrose, CO 81401. Electronic mail can be sent to bill_bottomly@co.blm.gov. The local addresses and telephone numbers of the affected BLM offices are: Gunnison Field Office, Bureau of Land Management, 216 N. Colorado, Gunnison, CO 81230 (970)641-0471; Uncompahgre Field Office, Bureau of Land Management, 2505 S. Townsend Avenue, Montrose, CO 81401 (970)240-5300.

FOR FURTHER INFORMATION CONTACT: Bill Bottomly at (970)240-5337.

SUPPLEMENTARY INFORMATION: The GFO manages approximately 585,000 acres in the study area. In the GFO, approximately 365,660 acres are currently “open” year-long and approximately 73,430 acres are “limited seasonally” to motorized use. Mountain bike use is currently unrestricted on approximately 537,000 acres. The UFO manages approximately 66,825 acres within the study area for this proposal. Of the lands managed by the UFO in the study area, approximately 27,060 acres are “open” year-long and 36,690 acres are “limited seasonally” to motorized use. Mountain bike use is currently unrestricted on all BLM-managed lands in the study area managed by the UFO.

The affected agency resource management plans were prepared prior to much of the recent increase in OHV and mountain bike use, and the new development of all terrain vehicle technology. One of the many opportunities on public land is traveling the back country for recreational pursuits, such as sight-seeing, wood cutting, fishing, hunting, and other activities. It is the goal of both offices to provide for a wide spectrum of dispersed recreation activities while minimizing environmental impacts and conflicts between user groups. Some of this use occurs on public lands where OHV use is currently limited to existing or designated roads and trails. However, there are large areas of public land that are open to cross-country travel off roads and trails by OHVs, including mountain bikes. This unrestricted use has the potential to continue the spread of noxious weeds, create user conflicts, cause erosion, damage cultural sites, and disrupt wildlife and wildlife habitat. With an increase in OHV and mountain bike traffic, and changes in OHV technology, the public, and the land management agencies, recognize the need to evaluate current management decisions for those areas where driving off roads and trails is allowed. A change in management direction would be accomplished through an EA and an amendment to the BLM resource management plans. The BLM plan amendments would address the use of wheeled, motorized vehicles designed for and/or capable of travel off roads and trails, and mountain bike use. The BLM proposes changing the areas currently open seasonally or year-long to cross-country OHV and mountain bike use to a designation that allows for travel only on existing roads and trails. These changes in designation would prohibit cross-country travel by wheeled, motorized vehicles designed for and/or capable of travel off roads and trails, and mountain bike. However, this would not change most of the current limited or closed designations, or designated intensive use areas. Access allowed under the terms and conditions of a federal lease or permit would not be affected by the proposal. This broad scale decision as proposed would be an interim decision until revision or completion of agency travel management plans. If necessary, as a part of a future travel management planning process, existing OHV designations that affect travel uses by OHVs and mountain bikes on the affected lands could be changed to a more appropriate designation, including identifying areas for trail development, or further limiting travel off roads and trails.

The 30-day scoping period covering this notice for the BLM plan amendments and EA is being provided so interested groups and the general public can comment on the proposal in this notice. Please see the information after the heading above titled “DATES” for the public comment period dates. No open houses or public meetings are planned during the comment period on this proposal. Proposed BLM plan amendments will be published during the EA process, and a 30-day protest period will apply to the BLM proposed amendments.

Authority: Sec. 202, Pub. L. 94-579, 90 Stat. 2747 (43 U.S.C. 1712), Sec. 6, Pub. L. 94-588, 90 Stat. 2949 (16 U.S.C. 1604).

Barry Tollefson and Allan Belt, Field Managers, Gunnison and Uncompahgre Field Offices, respectively.

Dated: March 24, 2000.
Barry A. Tollefson,
Field Manager, Gunnison Field Office.
Dated: March 24, 2000.
Allan J Belt,
Field Manager, Uncompahgre Field Office.

[FR Doc. 00-7816 Filed 3-29-00; 8:45 am]

BILLING CODE 4310-JB-P